DEPARTMENT OF TRANSPORTATION

Coast Guard

33 CFR Part 165

[CGD01-00-166]

RIN 2115-AA97

Safety Zone: Arrival of Sailing Vessel AMISTAD, New Haven Harbor, Connecticut

AGENCY: Coast Guard, DOT.

ACTION: Temporary final rule.

SUMMARY: The Coast Guard is establishing a temporary safety zone for the arrival of the sailing vessel AMISTAD in New Haven Harbor, New Haven, CT on July 15, 2000. This action will restrict vessel traffic in New Haven Harbor and is needed to protect the ­S/V Amistad, recreational and commercial vessels and their passengers and crew.

DATES: This rule is effective from 10:00 a.m. until 4:00 p.m. on July 15, 2000.

ADDRESSES: You may mail comments and related material to Coast Guard Group/Marine Safety Office Long Island Sound, 120 Woodward Ave, New Haven, CT 06512-3698. The Response Department maintains the public docket for this rulemaking. Comments and material received from the public, as well as documents indicated in this preamble as being available in the docket, will become part of this docket and will be available for inspection or copying at the Response Department between 7:30 a.m. and 4:00 p.m., Monday through Friday, except Federal holidays.

FOR FURTHER INFORMATION CONTACT: Lieutenant Robert D. Mutto, Group/MSO Long Island Sound, New Haven, Connecticut, (203)468-4438.

SUPPLEMENTARY INFORMATION:

Request for Comments

Although this rule is being published as a temporary final rule without prior notice, an opportunity for public comment is nevertheless desirable to ensure the rule is both reasonable and workable. Accordingly, we encourage you to participate in this rulemaking by submitting comments and related material. If you do so, please include your name and address, identify the docket number for this rulemaking (CGD01-00-166), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Regulatory History

We did not publish a notice of proposed rulemaking (NPRM) for this regulation. Under 5 U.S.C. 553(b)(8), the Coast Guard finds that good cause exists for not publishing an NPRM. We were not notified of the event with sufficient time to publish an NPRM, allow for comments, and publish a final rule in sufficient time to allow notice to the public.

Under 5 U.S.C. 553(d)(3), the Coast Guard finds that good cause exists for making this rule effective less than 30 days after publication in the Federal Register. This is a locally supported event with minimal impact on the waterways and the zones are only in affect for a short duration.

Background and Purpose

The Amistad Historical Society is sponsoring a voyage of the sailing vessel Amistad from New London Harbor to NewHaven Harbor. On July 14, 2000, the Amistad and participating vessels will transit from New London Harbor via Long Island Sound to New Haven. The Amistad will arrive in New Haven Harbor on July 15, 2000 and will transit to a berth at Long Wharf Pier.

The Coast Guard will establish a safety zone in New Haven Harbor on July 15, 2000, to protect the maritime public and participating vessels from possible hazards to navigation caused by the arrival of the sailing vessel AMISTAD on July 15, 2000. The safety zone includes all waters of New Haven Harbor within the boundaries of the marked channel from the Hew Haven Harbor entrance buoy to the I-95 Quinnipiac River Bridge. This safety zone is effective from 10:00 a.m. until 4:00 p.m. on July 15, 2000.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this rule to be so minimal that a full Regulatory Evaluation under paragraph 10e of the regulatory policies and procedures of DOT is unnecessary.

Although this regulation prevents traffic from transiting New Haven Harbor during the event, the effect of this regulation will not be significant for the following reasons: the limited duration that the safety zone will be in effect and the extensive advance notifications that will be made to the maritime community via the Local Notice to Mariners, facsimile, marine information broadcast, local area committee meetings, and New Haven area newspapers. Mariners will be able to adjust their plans accordingly base on the extensive advance information. Additionally, this safety zone has been narrowly tailored to impose the least impact on maritime interests yet provide the level of safety deemed necessary.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. This rule would affect the following entities, some of which might be small entities: the owners or operators of vessels intending to transit through portions of Long Island Sound and New Haven Harbor during various times of July 15, 2000. Although these regulations apply to a substantial portion of New Haven Harbor, designated areas for viewing the Amistad arrival are being established to allow for maximum use of the waterways by vessels that usually operate in the affected areas. New Haven Harbor will be closed to commercial traffic during the Amistad arrival parade. Before the effective period, the Coast Guard would make notifications to the public via mailings, facsimiles, the Local Notice to Mariners and the use of the sponsor's Internet site. In addition, the sponsoring organization, Amistad Historical society, is planning to provide notification of the event via local newspapers, pamphlets and television and radio broadcasts.

If, however, you think that your business or organization qualifies as a small entity and that this proposed rule will have a significant economic impact on it, please submit a comment (see ADDRESSES) explaining why you think it qualifies and how and to what degree this rule would economically affect it.

Collection of Information

This rule would call for no new collection of information under the Paperwork Reduction Act of 1995 (44 U.S.C. 3501-3520.).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose an unfunded mandate.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

We considered the environmental impact of this rule and concluded that, under figure 2-1, paragraph 34(g), of Commandant Instruction M16475.lC, this rule is categorically excluded from further environmental documentation. A “Categorical Exclusion Determination” is available in the docket where indicated under ADDRESSES.

List of Subjects in 33 CFR Part 165

Marine safety, Navigation (water), Reporting and record keeping requirements, Waterways.

Temporary Regulation

For the reasons discussed in the preamble, the Coast Guard amends 33 CFR Part 165 as follows:

PART 165—[AMENDED]

1. The authority citation for Part 165 reads as follows:

Authority: 33 U.S.C. 1231; 50 U.S.C. 191; 33 CFR 1.05-1(g), 6.04-1, 6.04-6 and 160.5; 49 CFR 1.46; Section 165.100 is also issued under authority of Sec. 311 Pub. L. 105-383.

2. Add temporary § 165.T01-166 to read as follows:

§ 164.T01-166 Safety Zone; Arrival of Sailing Vessel AMISTAD in New Haven Harbor, Connecticut.

(a) Location. All waters of New Haven Harbor within the boundaries of the marked channel leading from the New Haven Harbor entrance buoy to the I-95 Quinnipiac River Bridge.

(b) Effective period. This section is effective from 10:00 a.m. until 4:00 p.m., on July 15, 2000.

(c) Regulations. (1) The rules covering safety zones contained in section 165.23 of this part apply.

(2) All persons and vessels shall comply with the instructions of the Coast Guard Captain of the Port or the designated on scene patrol personnel. U.S. Coast Guard patrol personnel include commissioned, warrant, and petty officers of the Coast Guard. Upon being hailed by a U.S. Coast Guard vessel via siren, radio, flashing light, or other means, the operator of a vessel shall proceed as directed.

Dated: May 24, 2000.
David P. Pekoske,
Captain, U.S. Coast Guard, Captain of the Port, Long Island Sound.

[FR Doc. 00-16246 Filed 6-26-00; 8:45 am]

BILLING CODE 4910-15-U